DEPARTMENT OF ENERGY

Federal Energy Regulatory Commission

[Project No. 14769-000]

Green Canyon Energy, LLC; Notice of Preliminary Permit Application Accepted for Filing and Soliciting Comments, Motions To Intervene, and Competing Applications

On March 14, 2016, Green Canyon Energy, LLC filed an application for a preliminary permit, pursuant to section 4(f) of the Federal Power Act (FPA), proposing to study the feasibility of the Eagle Creek Hydroelectric Project (Eagle Creek Project or project) to be located on Eagle Creek, in Lane County, Oregon. The proposed project boundary will occupy approximately 14.5 acres of federal land within the Willamette National Forest. The sole purpose of a preliminary permit, if issued, is to grant the permit holder priority to file a license application during the permit term. A preliminary permit does not authorize the permit holder to perform any land-disturbing activities or otherwise enter upon lands or waters owned by others without the owners' express permission.

The proposed project would consist of the following new features: (1) A 40-foot-long, 9.5-foot-high concrete diversion weir traversing Eagle Creek; (2) an approximately 0.7 acre-foot impoundment; (3) an approximately 11,470-foot-long, 36-inch-diameter polyvinyl chloride pipe penstock; (4) a 50-foot-long, 40-foot-wide concrete powerhouse; (5) one Pelton turbine/generator with a total installed capacity of 7.0-megawatts; (6) a tailrace comprised of a 50-foot-long, 60-inch steel pipe and a 350-foot-long and 25-foot-wide rip-rapped channel discharging flows from the powerhouse back to Eagle Creek; (7) an approximately 3,960-foot-long, 12.4-kilovolt (kV) transmission line interconnecting with the existing Blachly-Lane Electric Cooperative transmission line; and (8) appurtenant facilities. The estimated annual generation of the Eagle Creek Project would be 50 gigawatt-hours.

Applicant Contact: Mr. Mark A. Mikkelsen, 275 Knight Avenue, Eugene, Oregon 97404; phone: (541) 520-2233.

FERC Contact: Karen Sughrue; phone: (202) 502-8556.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14769-000.

More information about this project, including a copy of the application, can be viewed or printed on the “eLibrary” link of Commission's Web site at http://www.ferc.gov/docs-filing/elibrary.asp. Enter the docket number (P-14769) in the docket number field to access the document. For assistance, contact FERC Online Support.

Dated: May 5, 2016.
Kimberly D. Bose,
Secretary.

[FR Doc. 2016-11220 Filed 5-11-16; 8:45 am]

BILLING CODE 6717-01-P